DEPARTMENT OF JUSTICE

Notice of Lodging of Consent Judgment Pursuant to Comprehensive Environmental Response, Compensation and Liability Act

Notice is hereby given that on December 19, 2008, a proposed Supplemental Consent Judgment in United States v. Estate of Joseph Vazzana, Sr., et al., Civil Action No. CV-04-0620, was lodged with the United States District Court for the Eastern District of New York.

An earlier Consent Judgment, entered by the Court on May 21, 2007, resolved cost recovery claims of the United States, on behalf of the U.S. Environmental Protection Agency (“EPA”), under Section 107(a) of the Comprehensive Environmental Response, Compensation, and Liability Act of 1980, as amended (“CERCLA”), 42 U.S.C. 9607(a), in connection with the Spectrum Finishing Corp. Superfund Site in West Babylon, Suffolk County, New York (the “Site”), against defendants Estate of Joseph Vazzana, Sr., Joseph Vazzana, Jr. (hereinafter collectively referred to as “Settling Defendants”), and the approximately one acre of land located contiguously at 51 Cabot and 50 Dale Streets in West Babylon that comprises the Site (“Property”). The original Consent Judgment provided, among other things, that the Defendants would sell the Property and reimburse EPA for its response costs from the proceeds. This Supplemental Consent Judgment provides for the specific terms of sale and distribution of proceeds from the sale of the Property in accordance with a formula set forth in the Supplemental Consent Judgment. This Supplemental Consent Judgment addresses the claims to the Property made in this action by the County of Suffolk, the State of New York, and the Suffolk County District Attorney's Office.

The Department of Justice will receive for a period of thirty (30) days from the date of this publication comments relating to the proposed Consent Judgment. Comments should be addressed to the Assistant Attorney General of the Environment and Natural Resources Division, and either e-mailed to pubcomment-ees.enrd@usdoj.gov or mailed to P.O. Box 7611, U.S. Department of Justice, Washington, DC 20044-7611, and should refer to United States v. Estate of Joseph Vazzana, Sr., et al., Civil Action No. CV-04-0620, D.J. Ref. No. 90-11-3-07461.

The proposed Supplemental Consent Judgment may be examined at the Office of the United States Attorney, Eastern District of New York, 271 Cadman Plaza East, 7th Floor, Brooklyn, New York 11201, and at the United States Environmental Protection Agency, Region II, 290 Broadway, New York, New York 10007-1866. During the public comment period, the proposed Supplemental Consent Judgment may also be examined on the following Department of Justice Web site, http://www.usdoj.gov/enrd/Consent_Decrees.html. A copy of the proposed Supplemental Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Supplemental Consent Judgment, please enclose a check in the amount of $7.25 (25 cents per page reproduction cost) payable to the U.S. Treasury or, if by e-mail or fax, forward a check in that amount to the Consent Decree Library at the stated address.

Henry Friedman,
Assistant Section Chief, Environmental Enforcement Section, Environment and Natural Resources Division.

[FR Doc. E9-68 Filed 1-7-09; 8:45 am]

BILLING CODE 4410-15-P